DEPARTMENT OF COMMERCE

[Docket No.: 130520483-3598-02]

Privacy Act New System of Records

AGENCY: Department of Commerce.

ACTION: Notice; COMMERCE/DEPT-23, Information Collected Electronically in Connection with Department of Commerce Activities, Events, and Programs.

SUMMARY: The Department of Commerce (Commerce) publishes this notice to announce the effective date of a Privacy Act system of records entitled COMMERCE/DEPT-23, Information Collected Electronically in Connection with Department of Commerce Activities, Events, and Programs.

DATES: The system of records becomes effective on July 15, 2013.

ADDRESSES: For a copy of the system of records please mail requests to Brenda Dolan, U.S. Department of Commerce, Suite A300, Room A326, 1401 Constitution Avenue NW., Washington, DC 20230, 202-482-3258.

FOR FURTHER INFORMATION CONTACT: Brenda Dolan, U.S. Department of Commerce, Suite A300, Room A326, 1401 Constitution Ave. NW., Washington, DC 20230, 202-482-3258.

SUPPLEMENTARY INFORMATION: On June 5, 2013, Commerce published and requested comments on a proposed Privacy Act system of records entitled COMMERCE/DEPT-23, Information Collected Electronically in Connection with Department of Commerce Activities, Events, and Programs. No comments were received in response to the request for comments.

By this notice, the Department is adopting the proposed system as final without changes effective July 15, 2013.

Dated: July 9, 2013.
Brenda Dolan,
U.S. Department of Commerce, Departmental Freedom of Information and Privacy Act Officer.

[FR Doc. 2013-16813 Filed 7-12-13; 8:45 am]

BILLING CODE 3510-25-P